DEPARTMENT OF COMMERCE

National Oceanic and Atmospheric Administration

[Docket No. 060419105-6105-01]

Privacy Act of 1974; System of Records

AGENCY: Department of Commerce, NOAA.

ACTION: Notice of a new Privacy Act System of Records: COMMERCE/NOAA System-18; permits and registrations for fisheries in the Exclusive Economic Zone (EEZ) off Washington, Oregon, and California and permits and registrations for vessels fishing outside of the EEZ (High Seas).

SUMMARY: This notice announces the Department of Commerce (Department's) proposal for a new system of records under the Privacy Act. NOAA Fisheries, Northwest Region is creating a new system of records for permits and non-permit registrations is for use with a variety of fisheries management programs. NOAA Fisheries requires the use of permits or registrations by participants in certain fisheries of the Exclusive Economic Zone (EEZ) off Washington, Oregon, and California and on the high seas outside of the EEZ. Applications for various permits and registrations are collected from individuals under the authority of the Magnuson-Stevens Act and the High Seas Fishing Compliance Act. This new record system is necessary to identify participants in the fishery and to evaluate whether the applicants/participants meet the established requirements for such fishing privileges.

DATES: To be considered, written comments must be submitted on or before December 28, 2006. Unless comments are received, the new system of records will become effective as proposed on the date of publication of a subsequent notice in the Federal Register.

ADDRESSES: Comments may be mailed to Frank Lockhart, Assistant Regional Administrator for Sustainable Fisheries, NOAA Fisheries, Northwest Region, Sustainable Fisheries Division, 7600 Sand Point Way NE, Bldg. #1, Seattle, WA 98115; Attn: Maryanne Nickerson.

FOR FURTHER INFORMATION CONTACT: Kevin Ford, 206-526-6115.

SUPPLEMENTARY INFORMATION: NOAA Fisheries, Northwest Region is creating a new system of records for permit and non-permit registrations for use with a variety of fisheries management programs. NOAA Fisheries requires the use of permits or registration by some participants in fisheries of the Exclusive Economic Zone (EEZ) off Washington, Oregon, and California and in the High Seas outside of the EEZ. Information collections would be requested from individuals under the authority of the Magnuson-Stevens Act and the High Seas Fishing Compliance Act. The collection of information is necessary to identify participants in these fisheries and to evaluate whether the applicants or current permit owners/holders are eligible for certain fishing privileges and benefits. NOAA Fisheries, Northwest Region would collect information from individuals in order to issue, renew, or transfer fishing permits or to make non-permit registrations. Where the SSN is requested, bracketed information indicates whether the response to the request is voluntary [SSN voluntary] or mandatory [SSN mandatory]. The authority for the mandatory collection of SSN is the Debt Collection Act Improvement Act, 31 U.S.C. 7701. Specifically, the Northwest Region issues permits or registrations for the following programs:

Pacific Coast Groundfish Limited Entry Permits [SSN mandatory],

Exempted Fisheries Permit (NOAA approved research and data collection activities) [SSN mandatory],

High Seas Fishing Compliance Act Permits (for those individuals electing to obtain a high seas permit through the NMFS, Northwest Region) [SSN mandatory],

Registration of Sablefish Vessels with an Exemption from At-Sea Processing [SSN mandatory].

COMMERCE/NOAA-18

System Name:

Permits and Registrations for Fisheries of the Exclusive Economic Zone (EEZ) off Washington, Oregon and California and Permits and Registrations for Vessels Fishing outside of the EEZ (High Seas).

Security Classification:

None.

System Location:

NOAA Fisheries, Northwest Region, Sustainable Fisheries Division, 7600 Sand Point Way NE, Bldg. #1, Seattle, WA 98115.

Categories of Individuals Covered by the System:

Owners of a permit or holders of a permit as recognized by NMFS. Individuals, who apply for any permit, permit exemption or regulation exemption, registration, dedicated access privilege or fishing quota share either initially, annually, or by transfer. Owners and/or operators of a catcher vessel, catcher/processors, or motherships. Applicants seeking permission to fish in a manner that would otherwise be prohibited in order to conduct experimental fishing. Owners of processing facilities and/or fish dealers.

Categories of Records in the System:

Among the records that may be contained in this system of records are the following: Current and prospective (applicant) permit owner, holder, vessel owner and operator name, individuals seeking and/or receiving a permit or fishing exemption; address; telephone number; fax number; e-mail address; social security number (SSN) or tax identification number; NMFS internal identification number; vessel name; vessel gear; hold capacity; United States Coast Guard Certificate of Documentation number or state vessel registration number/document; vessel length; permit number; amount of landed fish or processed fish product; divorce decrees; death certificates; probated wills; trust documents; sales and lease agreements; marriage certificates; probated wills; date of birth; medical records. For those individuals that own a sablefish endorsed permit, or applicants or recipients of exemptions, such lists will detail the individuals name, address, and SSN. Collection of SSN is mandatory for applicants for, and recipients of, a Federal permit or exemption thereof.

Authority for Maintenance of the System:

Magnuson-Stevens Fishery Conservation and Management Act, 16 U.S.C. 1801 et seq. (Magnuson-Stevens Act); 50 CFR Part 660, Subpart G; High Seas Fishing Compliance Act of 1995, 16 U.S.C 5501 et seq.; 50 CFR Part 300; Debt Collection Improvement Act, 31 U.S.C. 7701.

Purposes(s):

This information will allow the NOAA Fisheries to identify permit owners and holders, and vessel owners and operators, and evaluate requests by applicants and current participants (permit owners and holders) in approving/disapproving the issuance of a permit, a vessel registration, and a transfer of an existing permit or renewal of a current permit.

Routine Uses of Records Maintained in the System, Including Categories of Users and the Purpose of Such Uses:

These records or information contained therein may specifically be disclosed as a routine use as stated below. The Department will, when so authorized, make the determination as to the relevancy of a record prior to its decision to disclose a document.

1. In the event that a system of records maintained by the Department to carry out its functions indicates a violation or potential violation of law or contract, whether civil, criminal or regulatory in nature and whether arising by general statute or particular program statute or contract, or rule, regulation or order issued pursuant thereto, or the necessity to protect an interest of the Department, the relevant records in the system of records may be referred to the appropriate agency, whether Federal, State, local or foreign, charged with the responsibility of investigation or prosecuting such violation or charged with enforcing or implementing the statute or contract, or rule, regulation or order issued pursuant thereto, or protecting the interest of the Department.

2. A record from this system of records may be disclosed in the course of presenting evidence to a court, magistrate or administrative tribunal, including disclosures to opposing counsel in the course of settlement negotiations.

3. A record in this system of records may be disclosed to a Member of Congress submitting a request involving an individual when the individual has requested assistance from the Member with respect to the subject matter of the record.

4. A record in this system of records may be disclosed to the Department of Justice in connection with determining whether the Freedom of Information Act (5 U.S.C. 552) requires disclosure thereof.

5. A record in this system of records may be disclosed to a contractor of the Department having need for the information in the performance of the contract, but not operating a system of records within the meaning of 5 U.S.C. 552a(m).

6. A record in this system of records may be disclosed to approved persons of the states of Washington, Oregon, California or the Pacific States Marine Fisheries Commission for the purpose of co-managing a fishery or for making determinations about eligibility for permits when State data are all or part of the basis for the permits.

7. A record in this system of records may be disclosed to Pacific Fishery Management Council (Council) staff and contractors tasked with development of analyses to support Council decisions about Fishery Management Programs.

8. A record in this system of records may be disclosed to the NOAA Fisheries Observer Program for purposes of identifying current permit owners and vessels and making a random assignment of observers to vessels in a given fishing season.

Policies and Practices for Storing, Retrieving, Accessing, Retaining and Disposing of Records in the System:

Storage:

Computerized database; paper records are stored in file folders in locked metal cabinet.

Retrievability:

Paper records are maintained in file folders and organized by permit number for the groundfish limited entry permits and exempted fishing permits. High Seas Fishing Compliance Act permit file folders are organized by vessel number. Electronic records are retrieved by permit number, name of permit owner or permit holder, vessel owner name, vessel name or vessel identification number or any combination thereof.

Safeguards:

The system of records is stored in a building with doors that are locked during and after business hours. Visitors to the facility must register with security guards and must be accompanied by Federal personnel at all times. Records are stored in a locked file cabinet. Electronic records containing Privacy Act information are protected by a user identification/password. The user identification/password is issued individuals as authorized by authorized personnel.

Retention and Disposal:

All records are retained and disposed of in accordance with National Archive and Records Administration regulations (36 CFR Chapter XII, Subchapter B—Records Management); Departmental directives and comprehensive records schedules.

System Manager(s) and Address:

NOAA Fisheries, Northwest Region, Sustainable Fisheries Division, 7600 Sand Point Way NE, Bldg. #1, Seattle, WA 98115.

Notification Procedure:

A notification may be submitted to the system manager at the address given above. Requestor must make the request in writing and provide his/her name, address, and date of the request and record sought. All such requests must comply with the inquiry provisions of the Department's Privacy Act rules which appear at 15 CFR Part 4, Appendix A.

Record Access Procedures:

Requests for access to records maintained in this system of records should be addressed to the same address given in the Notification section above.

Contesting Record Procedures:

The Department's rules for access, for contesting contents, and appealing initial determinations by the individual concerned are provided for in 15 CFR Part 4, Appendix A.

Record Source Categories:

Information in this system will be collected from individuals applying for a permit or registration or from an existing permit owner, permit holder or vessel owner.

Exemption Claims for System:

None.

Dated: November 20, 2006.
Brenda Dolan,
Department of Commerce, Freedom of Information/Privacy Act Officer.

[FR Doc. E6-20121 Filed 11-27-06; 8:45 am]

BILLING CODE 3510-22-P